FEDERAL MEDIATION AND CONCILIATION SERVICE

[Docket No.: FMCS-2020-0004-0001]

Student Award Program Announcement

AGENCY: Office of the Director (OD), Federal Mediation and Conciliation Service (FMCS).

ACTION: Final action.

SUMMARY: As a policy initiative, FMCS has created a student award program.

DATES: Effective 30 days after publication.

ADDRESSES: Inquiries can be sent by email to scudahy@fmcs.gov; the address for personal or postal delivery is Office of the General Counsel, FMCS, Floor 7, One Independence Square, 250 E. St. SW, Washington, DC, 20427. Please note that as of September 9, 2020, the FMCS office is not open for visitors and mail is not checked daily. Therefore, we encourage emailed inquiries.

FOR FURTHER INFORMATION CONTACT: For specific questions related to this program, please contact Sarah Cudahy, 202-606-8090.

SUPPLEMENTARY INFORMATION: No comments were received during the comment period. To access and review all the documents related to the information collection listed in this notice, please use http://www.regulations.gov by searching the Docket ID number FMCS-2020-0004-0001.

Dated: September 9, 2020.
Sarah Cudahy,
General Counsel.

[FR Doc. 2020-20174 Filed 9-11-20; 8:45 am]

BILLING CODE 6732-01-P